DEPARTMENT OF STATE

[Public Notice 7292]

Request for Comments and Suggestions for the Agenda of the Environmental Affairs Council (Eac) of the Dominican Republic-Central America-United States Free Trade Agreement (Cafta-Dr)

ACTION: Notice of CAFTA-DR EAC meeting and request for comments on the meeting agenda.

SUMMARY: The Department of State and the Office of the United States Trade Representative (USTR) are providing notice that, as set forth in chapter 17 of the Dominican Republic-Central America-United States Free Trade Agreement (CAFTA-DR), the CAFTA-DR governments intend to hold the fifth meeting of the Environmental Affairs Council (EAC) in Washington, DC on January 27, 2011, at the Organization of American States, 200 17th Street NW., Washington, DC 20006. The EAC will hold a public session in the afternoon, with a reception immediately following.

During the meeting, the EAC members will present on their respective countries' progress in implementing chapter 17 and on the impacts of environmental cooperation in their countries. The EAC will also receive a presentation from the CAFTA-DR Secretariat for Environmental Matters (SEM) and discuss the Organization of American States' Second Evaluation Report: Monitoring Progress of the Environmental Cooperation Agenda in the CAFTA-DR Countries. For the public session of the meeting, the EAC will present the results of the above discussion elements with a particular focus on the chapter 17 obligations and environmental cooperation successes. The public will have the opportunity to ask questions and discuss implementation of chapter 17 and environmental cooperation with EAC members. In addition, the SEM will present on the citizen submissions mechanism established under chapter 17. More information on the EAC is detailed below under Supplementary Information.

The Department of State and USTR invite written comments or suggestions regarding the EAC meeting agenda and the Environmental Cooperation Expo. In preparing comments, we encourage submitters to refer to chapter 17 of the CAFTA-DR, the Final Environment Review of the CAFTA-DR and the Agreement among the CAFTA-DR parties on Environmental Cooperation (ECA) (available at http://www.state.gov/g/oes/env/trade/caftadr/index.htm).

DATES: To be assured of timely consideration, all comments or suggestions are requested no later than January 20, 2011.

ADDRESSES: Written comments or suggestions should be submitted to both: (1) Rebecca Slocum, U.S. Department of State, Bureau of Oceans and International Environmental and Scientific Affairs, Office of Environmental Policy by e-mail to SlocumRB@state.gov with the subject line “CAFTA-DR EAC Meeting” or by fax to (202) 647-5947; and (2) Kelly Milton, Director for International Environmental & Conservation Policy, Office of the United States Trade Representative by e-mail to KMilton@ustr.eop.gov with the subject line “CAFTA-DR EAC Meeting” or by fax to (202) 395-9517.

Persons with access to the Internet will be able to review and comment on the notice by going to the Regulations.gov Web site at: http://www.regulations.gov/search/Regs/home.html#home, and searching on docket ID DOS-2011-0015.

FOR FURTHER INFORMATION CONTACT: Rebecca Slocum, 202-647-4828 or Kelly Milton, 202-395-9590.

SUPPLEMENTARY INFORMATION: Article 17.5 of the CAFTA-DR establishes an Environmental Affairs Council (EAC). Article 17.5 requires the EAC to meet to review the implementation of, and progress under, chapter 17. Article 17.5 further requires, unless the governments otherwise agree, that each meeting of the EAC include a session in which members of the EAC have an opportunity to meet with the public to discuss matters relating to the implementation of chapter 17.

In Article 17.9 of the CAFTA-DR, the governments recognize the importance of strengthening capacity to protect the environment and to promote sustainable development in concert with strengthening trade and investment relations and state their commitment to expanding their cooperative relationship on environmental matters. Article 17.9 also references the ECA, which sets out certain priority areas of cooperation on environmental activities that are also reflected in Annex 17.9 of the CAFTA-DR. These priority areas include, among other things: reinforcing institutional and legal frameworks and the capacity to develop, implement, administer, and enforce environmental laws, regulations, standards, and policies; conserving and managing shared, migratory and endangered species in international trade and management of protected areas; promoting best practices leading to sustainable management of the environment; and facilitating technology development and transfer and training to promote clean production technologies.

The public is advised to refer to the State Department website at http://www.state.gov/g/oes/env/ and the USTR Web site at http://www.ustr.gov for further information.

Dated: January 10, 2011.
Willem H. Brakel, PhD,
Director, Office of Environmental Policy, Department of State.

[FR Doc. 2011-618 Filed 1-12-11; 8:45 am]

BILLING CODE 4710-09-P